DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed new information collection. In accordance with the Paperwork Reduction Act of 1995 (44 U.S.C. 3506(c)(2)(A)), this notice seeks comments concerning a study of the effectiveness of the National Flood Insurance Program's (NFIP) FloodSmart, a multimedia marketing campaign, aimed at measuring homeowners' awareness, attitudes, and purchasing of flood insurance.

SUPPLEMENTARY INFORMATION: FEMA administers the NFIP created by Congress in 1968 (Pub. L. 90-488 as amended) in response to mounting losses due to floods. Unlike federal disaster assistance, the NFIP does not rely upon appropriated tax dollars to pay claims and operating expenses, but rather it self-supports through premiums collected from flood insurance policies. Communities choosing to participate in the NFIP adopt and enforce floodplain management ordinances to reduce future flood loses in exchange for federally-backed flood insurance made available to property owners in those communities. Based on the correlation between public awareness and purchasing of flood insurance, the NFIP, through the FloodSmart campaign, educates the public on the risks posed by floods and the availability of flood insurance to property owners in participating communities.

Collection of Information

Title: Flood Awareness, Attitude and Usage Study.

Type of Information Collection: New collection.

OMB Number: 1660-NEW7.

Abstract: The Flood Awareness, Attitude and Usage Survey is the evaluative tool of the NFIP's FloodSmart marketing campaign. The study assesses the overall impact of the campaign elements (i.e. advertising recall, media exposure, etc.) on property owners' perceptions and flood insurance. Data findings are combined with additional program data to measure the sale and retention of flood insurance policies in meeting the program's goal of a 5 percent net growth annually. Findings will be used primarily to plan for the subsequent 2005 campaign, and will be combined with additional program metrics for further performance evaluation.

Affected Public: Individuals or households.

Estimated Total Annual Burden Hours: 264 hours.

Annual Burden Hours
Project/activity (survey, form(s), focus group, etc.) | Number of respondents (A) | Frequency of responses (B) | Burden hours per respondent (C) | Annual responses (A × B) | Total annual burden hours (A × B × C)
Internet Panel Survey | 800 | 1 | 0.33 | 800 | 264
Total | 800 | 1 | 0.33 | 800 | 264

Estimated Cost: $4.50 per response for a total of $3,604 for all respondents combined.

Annual Cost to Respondents
Program | Burden hours | Median hour rate ¹ ($) | Average cost per response ² ($) | Annualized cost all respondents ($)
Internet Panel Survey | 264 | 13.65 | 4.50 | 3,604.00
Grand total | 264 | 13.65 | 4.50 | 3,604.00
¹ Median hour for all occupations per Bureau of Labor Statistics, 2003.
² Based on 20 minutes (.33 hour) estimated response time.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Carolyn Goss, Program Analyst, Risk Management Marketing Section at (202) 646-3468 for additional information. You may contact Ms. Anderson for copies of the proposed collection of information at facsimile number (202) 646-3347 or e-mail address: FEMA-Information-Collections@dhs.gov.

Dated: January 11, 2005.
Edward W. Kernan,
Branch Chief, Information Resources Management Branch, Information Technology Services Division.

[FR Doc. 05-871 Filed 1-14-05; 8:45 am]

BILLING CODE 9110-13-P